DEPARTMENT OF EDUCATION

Extension of Deadline Date; Data Disaggregation Initiative Program

[Catalog of Federal Domestic Assistance (CFDA) Number: 84.365D.]

AGENCY: Office of English Language Acquisition, Department of Education.

ACTION: Notice; extension of deadline date.

SUMMARY: On May 4, 2016, we published in the Federal Register (81 FR 26780) a notice inviting applications for new awards for fiscal year (FY) 2016 for the Data Disaggregation Initiative Program. The notice established July 5, 2016, as the deadline date for eligible applicants to apply for funding under the program. This notice extends the deadline for transmittal of applications to August 1, 2016. All other requirements and conditions stated in the notice inviting applications, including the deadline for intergovernmental review, remain the same.

DATES: Deadline for Transmittal of Applications: August 1, 2016. Deadline for Intergovernmental Review: September 1, 2016.

FOR FURTHER INFORMATION CONTACT: Melissa Escalante, U.S. Department of Education, 400 Maryland Ave. SW., Room 5C153, Washington, DC 20202. Telephone: (202) 401-4300 or by email: OELA.D2.2016@ed.gov.

If you use a telecommunications device for the deaf or a text telephone, call the Federal Relay Service, toll free, at 1-800-877-8339.

SUPPLEMENTARY INFORMATION: On May 4, 2016, we published in the Federal Register (81 FR 26780) a notice inviting applications for new awards (NIA) for FY 2016 for the Data Disaggregation Initiative Program. The NIA established July 5, 2016, as the deadline date for eligible applicants to apply for funding under the program. However, as the NIA requires SEAs to submit an application in consortia with one or more LEAs, we believe it is critical that the SEAs be given additional time to engage in discussions with LEAs and take the necessary steps to secure the partnership documentation before the summer break begins. At the same time, we intend to make awards by the end of the current fiscal year. Therefore, we are extending the deadline for transmittal of applications to August 1, 2016. In order to make awards by the end of FY 2016, under 34 CFR 79.8(a), we are not extending the deadline for intergovernmental review, which remains September 1, 2016. All other requirements and conditions stated in the NIA remain the same.

Accessible Format: Individuals with disabilities can obtain this document in an accessible format (e.g., braille, large print, audiotape, or computer disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Portable Document Format (PDF). To use PDF, you must have Adobe Acrobat Reader, which is available free at the site.

You may also access documents of the Department published in the Federal Register by using the article search feature at: www.federalregister.gov. Specifically, through the advanced search feature at this site, you can limit your search to documents published by the Department.

Dated: May 20, 2016.
Libia S. Gil,
Assistant Deputy Secretary and Director for the Office of English Language Acquisition.

[FR Doc. 2016-12368 Filed 5-25-16; 8:45 am]

BILLING CODE 4000-01-P